DEPARTMENT OF HEALTH AND HUMAN SERVICES

National Institutes of Health

National Institute on Deafness and Other Communication Disorders; Notice of Meeting

Pursuant to section 10(d) of the Federal Advisory Committee Act, as amended, notice is hereby given of a meeting of the Board of Scientific Counselors, NIDCD.

The meeting will be open to the public as indicated below, with attendance limited to space available. Individuals who plan to attend and need special assistance, such as sign language interpretation or other reasonable accommodations, should notify the Contact Person listed below in advance of the meeting.

A portion of the meeting will be closed to the public as indicated below in accordance with the provisions set forth in sections 552b(c)(4) and 552b(c)(6), Title 5 U.S.C., as amended for the review, discussion, and evaluation of individual grant applications conducted by the National Institute on Deafness and Other Communication Disorders, including consideration of personnel qualifications and performance, and the competence of individual investigators, the disclosure of which would constitute a clearly unwarranted invasion of personal privacy.

Name of Committee: Board of Scientific Counselors, NIDCD.

Date: November 1, 2021.

Open: 8:45 a.m. to 9:00 a.m.

Agenda: Staff reports on divisional, programmatical, and special activities.

Place: Porter Neuroscience Research Center, Building 35A, 35 Convent Drive Bethesda, MD 20892 (Virtual Meeting).

Closed: 9:00 a.m. to 4:35 p.m.

Agenda: To review and evaluate personnel qualifications and performance, and competence of individual investigators.

Place: Porter Neuroscience Research Center, Building 35A, 35 Convent Drive Bethesda, MD 20892 (Virtual Meeting).

Contact Person: Lisa L. Cunningham, Ph.D., Senior Investigator, National Institute of Deafness and Other Communication Diseases, National Institutes of Health, 35A Convent Drive, Rockville, MD 20850, 301-443-2766, lisa.cunningham@nih.gov.

This notice is being published less than 15 days prior to the meeting due to the urgent need to meet timing limitations imposed by the intramural research review cycle.

Information is also available on the Institute's/Center's home page: https://www.nidcd.nih.gov/about/advisory-committees, where an agenda and any additional information for the meeting will be posted when available.

(Catalogue of Federal Domestic Assistance Program Nos. 93.173, Biological Research Related to Deafness and Communicative Disorders, National Institutes of Health, HHS)

Dated: October 13, 2021.
Victoria E. Townsend,
Program Analyst, Office of Federal Advisory Committee Policy.

[FR Doc. 2021-22718 Filed 10-18-21; 8:45 am]

BILLING CODE 4140-01-P